DEPARTMENT OF ENERGY

Western Area Power Administration

Interconnection of the Buffalo Ridge III Wind Project, Brookings and Deuel Counties, SD

AGENCY: Western Area Power Administration, DOE.

ACTION: Notice of Intent To Prepare an Environmental Impact Statement and Conduct Scoping Meetings; Notice of Potential Floodplain and Wetlands Involvement.

SUMMARY: The Western Area Power Administration (Western), an agency of the DOE, intends to prepare an environmental impact statement (EIS) on the proposed interconnection of the Buffalo Ridge III Wind Project (Project) in Brookings and Deuel counties, near the cities of White and Toronto, South Dakota. Heartland Wind, LLC (Heartland), a wholly owned subsidiary of Iberdrola Renewables, Inc., has applied to Western to interconnect their proposed Project to Western's power transmission system. Western is issuing this notice to inform the public and interested parties about Western's intent to prepare an EIS, conduct a public scoping process, and invite the public to comment on the scope, proposed action, alternatives, and other issues to be addressed in the EIS.

This EIS will address Western's Federal action of interconnecting the proposed Project to Western's transmission system and making any necessary modification to Western facilities to accommodate the interconnection. The EIS will also include a review of the potential environmental impacts of Heartland constructing, operating, and maintaining a 170-megawatt (MW) wind power generating facility, consisting of wind turbine generators, access roads, an electrical collection system, a collection substation, permanent meteorological tower(s), a sonic detection and ranging (SODAR) unit, an operations and maintenance building and yard, a transmission line, temporary laydown areas, and other ancillary facilities.

DATES: The public scoping period begins with the publication of this notice and closes on December 31, 2009. A public scoping meeting will be held on December 16, 2009.

ADDRESSES: A public scoping meeting will be held at the Clear Lake Community Center, 216 Third Avenue, South, Clear Lake, SD 57226. Written comments on the scope of the EIS should be addressed to Mr. Rod O'Sullivan, Document Manager, Western Area Power Administration, P.O. Box 35800, 2900 4th Avenue, North, Billings, MT 59107, fax (406) 247-7408 or e-mail BuffaloRidge3EIS@wapa.gov.

FOR FURTHER INFORMATION CONTACT: Mr. Rod O'Sullivan, Document Manager, Western Area Power Administration, P.O. Box 35800, 2900 4th Avenue, North, Billings, MT 59107, telephone (406) 247-7492, or e-mail BuffaloRidge3EIS@wapa.gov. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydroelectric power to preference customers, as specified by law. These customers include municipalities, cooperatives, irrigation districts, Federal and State agencies, and Native American tribes. Western's service territory covers 15 western states, including South Dakota. Western owns and operates more than 17,000 miles of high-voltage transmission lines. Heartland has applied to Western to interconnect the proposed Project to Western's transmission system. The interconnection would be facilitated with a 15 to 20-mile, 115-kilovolt (kV), above-ground transmission line, running from the proposed Project substation to Western's White Substation. Western offers capacity to deliver electricity on its transmission system, when such capacity is available, under Western's Open Access Transmission Service Tariff.

The proposed Project is subject to State and local approvals prior to Project construction. These approvals include an Energy Facility and Transmission Siting Permit from the South Dakota Public Utilities Commission and a Wind Energy System Permit from Deuel County.

Project Description

Heartland proposes to construct a 170-MW wind energy project, in Brookings and Deuel counties in eastern South Dakota. The Project area would occupy about 30 square miles. The proposed wind turbines would be located predominantly around and to the north of the city of Toronto, South Dakota. The majority of the project area lies within Blom and Scandinavia townships in Deuel County, with smaller portions of the project extending through Argo, Oak Lake, Sherman, and Richland townships in Brookings County.

Heartland proposes to build up to 113 wind turbines. Permanent disturbance for each turbine would be 0.5 to 1.0 acres. Heartland is considering a variety of turbine types, with capacities ranging from 1.5 to 2.4 MW. Each wind turbine generator would be mounted on a single steel tower 262 to 328 feet high. Turbine blades would be 128 to 156 feet long, for a total height, at the blade's highest point, of 390 to 484 feet.

Approximately 40 to 50 miles of aboveground and underground, electrical collector cable would be required to carry generated power from each turbine to a single project collection substation. The underground collector cables would be buried to a depth that would not interfere with farming operations. The collection substation would occupy about 5 to 10 acres of land.

Heartland proposes to add a second circuit, about 15 miles long, to their 115-kV Buffalo Ridge Transmission Line. Additionally, they propose to build about 5 miles of new 115-kV transmission line from the collection substation to the northern point of the Buffalo Ridge Transmission Line and the southern point of the same line to Western's White Substation.

Heartland proposes to build about 25 to 35 miles of new roads and upgrade 20 to 40 miles of existing roads for construction and maintenance access to all turbines and Project facilities. Other facilities would include one or more permanent meteorological towers, a SODAR unit, and an operations and maintenance building.

Heartland would site wind turbine generators and supporting infrastructure to optimize wind and land resources in the area while minimizing environmental impacts to the extent practicable. The proposed Project would be located on privately-owned lands, consisting of mostly rural cropland and some grazing land. Heartland would comply with local zoning requirements, including setbacks from residences, roads, and existing transmission and distribution lines. Heartland proposes to begin construction as early as fall 2010. The life of the project is anticipated to be a minimum of 20 years.

Agency Proposed Action and Alternatives

Western's proposed action is to interconnect the proposed Project to the Federal transmission system at its White substation. Western will also consider the no-action alternative in the EIS. Under the no-action alternative, Western would not interconnect the proposed Project. If additional alternatives are identified, they will be analyzed in the EIS.

Agency Responsibilities

Because interconnection of the proposed Project would incorporate a major new generation resource into Western's power transmission system, Western has determined that an EIS is required under DOE NEPA implementing procedures, 10 CFR part 1021, Subpart D, Appendix D, class of action D6.¹ Western is the lead Federal agency for preparing the EIS, as defined at 40 CFR 1501.5. Western invites other Federal, State, local, and tribal agencies with jurisdiction by law or special expertise with respect to environmental issues to be cooperating agencies on the EIS, as defined at 40 CFR 1501.6. Such agencies may also make a request to Western to be a cooperating agency by contacting Mr. O'Sullivan at the address listed above in the ADDRESSES section.

¹ On October 4, 1999, DOE's Assistant Secretary for Environmental, Safety and Health delegated to Western's Administrator the authority to approve EISs for integrating transmission facilities with Western's transmission grid.

Western's proposed action may affect floodplains or wetlands. This notice also serves as notice of proposed floodplain or wetland action, in accordance with 10 CFR part 1022.

Environmental Issues

This notice is to inform agencies and the public of Western's intent to prepare an EIS and solicit comments and suggestions for consideration in the EIS. To help the public frame its comments, the following list contains potential environmental issues preliminarily identified for analysis in the EIS:

1. Impacts on protected, threatened, endangered, or sensitive species of animals or plants.

2. Impacts on migratory birds.

3. Impacts from noxious weeds, invasive and non-native species.

4. Impacts on recreation and transportation.

5. Impacts on land use and farmland.

6. Impacts on cultural or historic resources and tribal values.

7. Impacts on human health and safety.

8. Impacts on air, soil, and water resources (including air quality and surface water impacts).

9. Visual impacts.

10. Socio-economic impacts and disproportionately high and adverse impacts to minority and low-income populations.

This list is not intended to be all-inclusive or to imply any predetermination of impacts. Western invites interested parties to suggest specific issues within these general categories, or other issues not included above, to be considered in the EIS.

Public Participation

The EIS process includes a public scoping period; public review and hearing on the draft EIS; publication of a final EIS; and publication of a record of decision (ROD). The public scoping period begins with publication of this notice and closes December 31, 2009. At the conclusion of the NEPA process, Western would prepare a ROD. Persons interested in receiving future notices, Project information, copies of the EIS, and other information on the NEPA review process should contact Mr. O'Sullivan at the address listed above in the ADDRESSES section.

Western will hold a public scoping meeting on December 16, 2009, at the Clear Lake Community Center, 216 Third Avenue, South, Clear Lake, SD. The meeting is scheduled for 6 to 8 p.m. with a short presentation followed by an open-house meeting, during which attendees are invited to speak one-on-one with agency and Project representatives. Attendees are welcome to come and go at their convenience throughout the meeting. If inclement weather prohibits the scoping meeting, an alternate meeting date and location will be publicized locally.

The purpose of the scoping meeting is to provide information about the proposed Project, review Project maps, answer questions, and take written comments from interested parties. All meeting locations are handicapped-accessible. Anyone needing special accommodations should contact Mr. O'Sullivan to make arrangements.

The public will have the opportunity to provide written comments at the public scoping meetings. Written comments may also be sent to Mr. O'Sullivan by fax, U.S. Postal Service mail, or e-mail. To help define the scope of the EIS, comments should be received by Western no later than December 31, 2009.

Dated November 17, 2009.
Timothy J. Meeks,
Administrator.

[FR Doc. E9-28409 Filed 11-25-09; 8:45 am]

BILLING CODE 6450-01-P